ENVIRONMENTAL PROTECTION AGENCY

[EPA-HQ-OPPT-2003-0004; FRL-10799-01-OCSPP]

Access to Confidential Business Information by Abt Associates

AGENCY: Environmental Protection Agency (EPA).

ACTION: Notice.

SUMMARY: EPA has authorized its contractor Abt Associates of Rockville, MD to access information which has been submitted to EPA under all sections of the Toxic Substances Control Act (TSCA). Some of the information may be claimed or determined to be Confidential Business Information (CBI).

DATES: Access to the confidential data will occur no sooner than April 6, 2023.

FOR FURTHER INFORMATION CONTACT:

For technical information contact: Colby Lintner/Adam Schwoerer, Program Management and Operations Division (7407M), Office of Pollution Prevention and Toxics, Environmental Protection Agency, 1200 Pennsylvania Ave. NW, Washington, DC 20460-0001; telephone number: (202) 564-8182; email address: lintner.colby@epa.gov or (202) 564-4767; schwoerer.adam@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available online at https://www.regulations.gov or in-person at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. For the latest status information on EPA/DC services and docket access, visit https://www.epa.gov/dockets.

II. What action is the Agency taking?

Under contract number 68HERH22A0018 task order number 68HERH23F0085, contractor Abt Associates, and Abt Associates' sites located at 6130 Executive Blvd., Rockville, MD and 10 Fawcett Street, Suite 5, Cambridge, MA will assist the Office of Pollution Prevention and Toxics (OPPT) by providing economic and other regulatory and pre-regulatory support for TSCA and EPCRA actions.

In accordance with 40 CFR 2.306(j), EPA has determined that under EPA contract number 68HERH22A0018, call order number 68HERH23F0085, Abt Associates will require access to CBI submitted under all Sections of TSCA to perform successfully the duties specified under the contract. Abt Associates' personnel will be given access to information claimed or determined to be CBI information submitted to EPA under all sections of TSCA.

EPA is issuing this notice to inform all submitters of information under all sections of TSCA that EPA will provide Abt Associates access to these CBI materials on a need-to-know basis only. All access to TSCA CBI under this contract will take place at EPA Headquarters and Abt Associate's sites located at 6130 Executive Blvd., Rockville, MD and 10 Fawcett Street, Suite 5, Cambridge, MA and telework locations of Abt Associates personnel in accordance with EPA's TSCA CBI Protection Manual and the Rules of Behavior for Virtual Desktop Access to OPPT Materials, including TSCA CBI.

Access to TSCA data, including CBI, will continue until February 12, 2028. If the contract is extended, this access will also continue for the duration of the extended contract without further notice.

Abt Associates' personnel will be required to sign nondisclosure agreements and will be briefed on specific security procedures for TSCA CBI.

Authority: 15 U.S.C. 2601 et seq.

Dated: March 27, 2023.
Pamela Myrick,
Director, Project Management and Operations Division, Office of Pollution Prevention and Toxics.

[FR Doc. 2023-06586 Filed 3-29-23; 8:45 am]

BILLING CODE 6560-50-P